DEPARTMENT OF TRANSPORTATION

Surface Transportation Board

[STB Finance Docket No. 33954]

Hollis & Eastern Railroad Company, a Delaware Corporation—Acquisition and Operation Exemption—Hollis & Eastern Railroad Company, an Oklahoma Corporation

Hollis & Eastern Railroad Company (Applicant), a noncarrier, has filed a verified notice of exemption under 49 CFR 1150.31 to acquire and operate the railroad line of Hollis & Eastern Railroad Company (Target) between Duke, OK, at milepost 0, and the Wichita, Tillman & Jackson Ry. Co. line, at milepost 14, located approximately 14 miles to the east.¹

¹ Target, an Oklahoma corporation, is a 99.3%-owned subsidiary of Republic Gypsum Company. Applicant, a Delaware corporation, is a wholly owned subsidiary of Target. Target will, pursuant to Oklahoma and Delaware law, merge into Applicant with Applicant being the surviving corporation. Following the mergers, Applicant will be converted to a Delaware limited liability company. As a result, the state of incorporation of Target will be changed from Oklahoma to Delaware, and Target will be changed to a Delaware limited liability company.

The transaction was scheduled to be consummated on or about November 9, 2000. The earliest the transaction could be consummated was November 7, 2000, 7 days after the exemption was filed.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33954, must be filed with the Surface Transportation Board, Office of the Secretary, Case Control Unit, 1925 K Street, NW, Washington, DC 20423-0001. In addition, a copy of each pleading must be served on Bryan Bishop, Esq., Locke Liddell & Sapp LLP, 2200 Ross Avenue, Suite 2200, Dallas, TX 75201.

Board decisions and notices are available on our website at “WWW.STB.DOT.GOV.”

Decided: November 13, 2000.
By the Board, David M. Konschnik, Director, Office of Proceedings.
Vernon A. Williams,
Secretary.

[FR Doc. 00-29651 Filed 11-17-00; 8:45 am]

BILLING CODE 4915-00-P